DEPARTMENT OF HEALTH AND HUMAN SERVICES

Administration for Children and Families

Proposed Information Collection Activity: Comment Request

Proposed Projects:

Title: TANF ARRA Tribal Financial Reporting ACF-196T-477 form under Public Law 102-477 OMB No.: New Collection.

Description: The ACF-196T-477 is a new Temporary Assistance for Needy Families (TANF) financial form that collects tribal expenditures from all the federally recognized tribes under Public Law 102-477, receiving funds from the American Recovery and Reactivation Act of 2009 (ARRA).

The Public Law 102-477 is the Indian Employment, training and related Services programs legislation that authorizes the tribal government, under specified conditions to use available funds, and now authorized by Public Law 111-5.

The Public Law 111-5 is the American Recovery and Reinvestment Act of 2009 (ARRA), that was created to jumpstart the economy, and create or save millions of jobs.

The ACF-196-477 TANF ARRA Financial Reporting form will Collect Exclusively ARRA Expenditures from Tribes under Public Law 102-477, which received transfer of funds from the Department of the Interior by means of an 1151 as required by Public Law 102-477—Action.

The collection of financial information is mandated by legislation and applicable to Tribes administering TANF programs under Public Law 102-477 demonstration projects that Receive ARRA Emergency funds.

This report must be used to report only ARRA funds expenditures quarterly. This report is required to be submitted quarterly to the Division of Workforce Development in the Office of Indian Energy and Economic Development, Department of the Interior with a copy to the Administration for Children and Families (ACF).

Respondents: All federally recognized tribes under Public Law 102-477 that received ARRA Emergency Contingency funds for Temporary Assistance for Needy Families (TANF).

Annual Burden Estimates
Instrument | Number of respondents | Number of reponses per respondent | Average burden hours per response | Total burden hours
ACF-196-T-477 | 17 | 4 | 1.50 | 102

Estimated Total Annual Burden Hours: 102.

In compliance with the requirements of section 506(c)(2)(A) of the Paperwork Reduction Act of 1995, the Administration for Children and Families is soliciting public comment on the specific aspects of the information collection described above. Copies of the proposed collection of information can be obtained and comments may be forwarded by writing to the Administration for Children and Families, 370 L'Enfant Promenade, SW., Washington, DC 20447, Attn: ACF Reports Clearance Officer. E-mail address: infocollection@acf.hhs.gov. All requests should be identified by the title of the information collection.

The department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 29, 2010.
Robert Sargis,
Reports Clearance Officer.

[FR Doc. 2010-10434 Filed 5-5-10; 8:45 am]

BILLING CODE 4184-01-M